DEPARTMENT OF COMMERCE

International Trade Administration

University of Wisconsin, et al.; Notice of Consolidated Decision on Applications for Duty-Free Entry of Electron Microscopes

This is a decision consolidated pursuant to Section 6(c) of the Educational, Scientific, and Cultural Materials Importation Act of 1966 (Pub. L. 89-651, 80 Stat. 897; 15 CFR part 301). Related records can be viewed between 8:30 A.M. and 5 P.M. in Suite 4100W, Franklin Court Building, U.S. Department of Commerce, 1099 14th Street, NW., Washington, DC.

Docket Number: 03-036. Applicant: University of Wisconsin, Madison, WI 53705-4494. Instrument: Electron Microscope, Model H-7600. Manufacturer: Hitachi High-Technologies Corporation, Japan. Intended Use: See notice at 68 FR 48341, August 13, 2003. Order Date: February 19, 2003.

Docket Number: 03-039. Applicant: University of Texas, Houston, TX 77030. Instrument: Electron Microscope, Model Tecnai G² Polara. Manufacturer: FEI Company, The Netherlands. Intended Use: See notice at 68 FR 48341, August 13, 2003. Order Date: March 28, 2002.

Docket Number: 03-040. Applicant: Georgetown University, Washington, DC 20007. Instrument: Electron Microscope, Model H-7600-1. Manufacturer: Hitachi High-Technologies Corporation, Japan. Intended Use: See notice at 68 FR 48342, August 13, 2003. Order Date: May 19, 2003.

Comments: None received. Decision: Approved. No instrument of equivalent scientific value to the foreign instrument, for such purposes as these instruments are intended to be used, was being manufactured in the United States at the time the instruments were ordered. Reasons: Each foreign instrument is a conventional transmission electron microscope (CTEM) and is intended for research or scientific educational uses requiring a CTEM. We know of no CTEM, or any other instrument suited to these purposes, which was being manufactured in the United States at the time of order of each instrument.

Gerald A. Zerdy,
Program Manager, Statutory Import Programs Staff.

[FR Doc. 03-23457 Filed 9-12-03; 8:45 am]

BILLING CODE 3510-DS-P